DEPARTMENT OF LABOR

Employment and Training Administration

[NAFTA-3690]

Tweco Products, Thermadyne Industries, Inc., Wichita, KS; Notice of Termination of Investigation

Pursuant to Section 221 of the Trade Act of 1974, an investigation was initiated on January 31, 2000, in response to a worker petition which was filed by a company official on behalf of workers at Tweco Products, Thermadyne Industries, Inc., Wichita, Kansas.

The petitioner has requested that the petition be withdrawn. Consequently further investigation in this case would serve no purpose, and the investigation has been terminated.

Signed in Washington, D.C. this 7th day of February, 2000.
Grant D. Beale,
Program Manager, Division of Trade Adjustment Assistance.

[FR Doc. 00-6371 Filed 3-14-00; 8:45 am]

BILLING CODE 4510-30-M